DEPARTMENT OF ENERGY

Federal Energy Regulatory Commission

Combined Notice of Filings #1

Take notice that the Commission received the following electric corporate filings:

Docket Numbers: EC15-82-000.

Applicants: Spokane Energy, LLC, Avista Corporation.

Description: Joint Application of Spokane Energy, LLC and Avista Corporation for Approval of Assignment of Capacity Sales Agreement, Waivers, and Request for Expedited Consideration.

Filed Date: 3/3/15.

Accession Number: 20150303-5247.

Comments Due: 5 p.m. ET 3/24/15.

Docket Numbers: EC15-83-000.

Applicants: Fowler Ridge Wind Farm LLC, Fowler Ridge II Wind Farm LLC, Fowler Ridge III Wind Farm LLC, Fowler Ridge IV Wind Farm LLC.

Description: Application for Authorization for Disposition of Jurisdictional Facilities and Requests for Waivers, and Expedited Consideration of Fowler Ridge Wind Farm LLC, et al.

Filed Date: 3/3/15.

Accession Number: 20150303-5248.

Comments Due: 5 p.m. ET 3/24/15.

Docket Numbers: EC15-84-000.

Applicants: Fowler Ridge IV Wind Farm LLC.

Description: Application for Authorization for Disposition of Jurisdictional Facilities and Requests for Waivers, Confidential Treatment, and Expedited Consideration of Fowler Ridge IV Wind Farm LLC.

Filed Date: 3/3/15.

Accession Number: 20150303-5249.

Comments Due: 5 p.m. ET 3/24/15.

Docket Numbers: EC15-85-000.

Applicants: Longview Power, LLC.

Description: Section 203 Application of Longview Power, LLC.

Filed Date: 3/3/15.

Accession Number: 20150303-5251.

Comments Due: 5 p.m. ET 3/24/15.

Take notice that the Commission received the following exempt wholesale generator filings:

Docket Numbers: EG15-61-000.

Applicants: Bear Mountain Limited.

Description: Notice of Self-Certification of Exempt Wholesale Generator Status of Bear Mountain Limited.

Filed Date: 3/4/15.

Accession Number: 20150304-5074.

Comments Due: 5 p.m. ET 3/25/15.

Docket Numbers: EG15-62-000.

Applicants: Chalk Cliff Limited.

Description: Notice of Self-Certification of Exempt Wholesale Generator Status of Chalk Cliff Limited.

Filed Date: 3/4/15.

Accession Number: 20150304-5075.

Comments Due: 5 p.m. ET 3/25/15.

Docket Numbers: EG15-63-000.

Applicants: McKittrick Limited.

Description: Notice of Self-Certification of Exempt Wholesale Generator Status of McKittrick Limited.

Filed Date: 3/4/15.

Accession Number: 20150304-5076.

Comments Due: 5 p.m. ET 3/25/15.

Docket Numbers: EG15-64-000.

Applicants: Live Oak Limited.

Description: Notice of Self-Certification of Exempt Wholesale Generator Status of Live Oak Limited.

Filed Date: 3/4/15.

Accession Number: 20150304-5078.

Comments Due: 5 p.m. ET 3/25/15.

Docket Numbers: EG15-65-000.

Applicants: NTE Energy, LLC.

Description: EWG Self-Certification of NTE Carolinas.

Filed Date: 3/4/15.

Accession Number: 20150304-5165.

Comments Due: 5 p.m. ET 3/25/15.

Docket Numbers: EG15-66-000.

Applicants: NTE Energy, LLC.

Description: EWG Self Certification of NTE Ohio.

Filed Date: 3/4/15.

Accession Number: 20150304-5167.

Comments Due: 5 p.m. ET 3/25/15.

Take notice that the Commission received the following electric rate filings:

Docket Numbers: ER10-1484-011.

Applicants: Shell Energy North America (U.S.), L.P.

Description: Notice of Non-Material Change in Status of Shell Energy North America (U.S.), L.P.

Filed Date: 3/3/15.

Accession Number: 20150303-5256.

Comments Due: 5 p.m. ET 3/24/15.

Docket Numbers: ER10-1782-006.

Applicants: Tampa Electric Company.

Description: Tampa Electric Company submits Annual Compliance Report Regarding Operational Penalties for 2014.

Filed Date: 3/3/15.

Accession Number: 20150303-5255.

Comments Due: 5 p.m. ET 3/24/15.

Docket Numbers: ER12-1308-005.

Applicants: Palouse Wind, LLC.

Description: Notice of Non-Material Change in Status of Palouse Wind, LLC.

Filed Date: 3/2/15.

Accession Number: 20150302-5404.

Comments Due: 5 p.m. ET 3/23/15.

Docket Numbers: ER12-2068-007: ER14-2630-003; ER13-17-005; ER13-1585-004; ER13-1139-010; ER12-682-008; ER12-1311-007; ER11-4029-007; ER11-2657-004; ER11-2201-011; ER10-2466-008; ER10-2465-003; ER10-2464-004; ER10-2463-007; ER10-2461-007; ER10-2460-007.

Applicants: Blue Sky East, LLC, Canandaigua Power Partners, LLC, Canandaigua Power Partners II, LLC, Erie Wind, LLC, Evergreen Wind Power, LLC, Evergreen Wind Power III, LLC, First Wind Energy Marketing, LLC, Imperial Valley Solar 1, LLC, Longfellow Wind, LLC, Milford Wind Corridor Phase I, LLC, Milford Wind Corridor Phase II, LLC, Regulus Solar, LLC, Stetson Holdings, LLC, Stetson Wind II, LLC, Vermont Wind, LLC, Niagara Wind Power, LLC.

Description: Notice of Change in Status of Blue Sky East, LLC, et. al.

Filed Date: 3/2/15.

Accession Number: 20150302-5406.

Comments Due: 5 p.m. ET 3/23/15.

Docket Numbers: ER14-1656-003.

Applicants: CSOLAR IV West, LLC.

Description: Notification of Change in Status of CSOLAR IV West, LLC.

Filed Date: 3/2/15.

Accession Number: 20150302-5405.

Comments Due: 5 p.m. ET 3/23/15.

Docket Numbers: ER15-1086-000.

Applicants: Midcontinent Independent System Operator, Inc., American Transmission Systems, Incorporation.

Description: Section 205(d) rate filing per 35.13(a)(2)(iii): 2015-02-24_SA 765 Bill of Sale for ATC-Wisconsin Power and Light D-TIA to be effective 4/26/2015.

Filed Date: 2/24/15.

Accession Number: 20150224-5269.

Comments Due: 5 p.m. ET 3/17/15.

Docket Numbers: ER15-1162-000.

Applicants: Duke Energy Carolinas, LLC.

Description: Section 205(d) rate filing per 35.13(a)(2)(iii): Amendment to NCMPA NITSA SA 212 to be effective 2/1/2015.

Filed Date: 3/3/15.

Accession Number: 20150303-5211.

Comments Due: 5 p.m. ET 3/24/15.

Docket Numbers: ER15-1163-000.

Applicants: Southwest Power Pool, Inc.

Description: Section 205(d) rate filing per 35.13(a)(2)(iii): Revisions to Bylaws Section 6.6 to be effective 5/3/2015.

Filed Date: 3/4/15.

Accession Number: 20150304-5050.

Comments Due: 5 p.m. ET 3/25/15.

Docket Numbers: ER15-1164-000.

Applicants: Southwestern Electric Power Company.

Description: Section 205(d) rate filing per 35.13(a)(2)(iii): SWEPCO-NTEC PSA Amendment to be effective 1/1/2015.

Filed Date: 3/4/15.

Accession Number: 20150304-5053.

Comments Due: 5 p.m. ET 3/25/15.

Docket Numbers: ER15-1165-000.

Applicants: Southwestern Electric Power Company.

Description: Section 205(d) rate filing per 35.13(a)(2)(iii): SWEPCO-ETEC PSA Amendment to be effective 1/1/2015.

Filed Date: 3/4/15.

Accession Number: 20150304-5054.

Comments Due: 5 p.m. ET 3/25/15.

Docket Numbers: ER15-1166-000.

Applicants: Southwestern Electric Power Company.

Description: Section 205(d) rate filing per 35.13(a)(2)(iii): SWEPCO-ETEC NTEC PSA Amendment to be effective 1/1/2015.

Filed Date: 3/4/15.

Accession Number: 20150304-5055.

Comments Due: 5 p.m. ET 3/25/15.

Docket Numbers: ER15-1167-000.

Applicants: Southwestern Electric Power Company.

Description: Section 205(d) rate filing per 35.13(a)(2)(iii): SWEPCO-TexLa PSA Amendment to be effective 1/1/2015.

Filed Date: 3/4/15.

Accession Number: 20150304-5056.

Comments Due: 5 p.m. ET 3/25/15.

Docket Numbers: ER15-1168-000.

Applicants: Southwestern Electric Power Company.

Description: Section 205(d) rate filing per 35.13(a)(2)(iii): SWEPCO-Tex-La EC-Entergy TX Facilities Development Agreement to be effective 2/5/2015.

Filed Date: 3/4/15.

Accession Number: 20150304-5066.

Comments Due: 5 p.m. ET 3/25/15.

Docket Numbers: ER15-1169-000.

Applicants: AEP Texas Central Company.

Description: Section 205(d) rate filing per 35.13(a)(2)(iii): TCC-South Texas EC (Red Gate) Interconnection Agreement to be effective 2/9/2015.

Filed Date: 3/4/15.

Accession Number: 20150304-5068.

Comments Due: 5 p.m. ET 3/25/15.

Docket Numbers: ER15-1170-000.

Applicants: Bear Mountain Limited.

Description: Initial rate filing per 35.12 Market-Based Rate Application to be effective 4/30/2015.

Filed Date: 3/4/15.

Accession Number: 20150304-5070.

Comments Due: 5 p.m. ET 3/25/15.

Docket Numbers: ER15-1171-000.

Applicants: Chalk Cliff Limited.

Description: Initial rate filing per 35.12 MBR Application to be effective 4/30/2015.

Filed Date: 3/4/15.

Accession Number: 20150304-5071.

Comments Due: 5 p.m. ET 3/25/15.

Docket Numbers: ER15-1172-000.

Applicants: Live Oak Limited.

Description: Initial rate filing per 35.12 MBR Application to be effective 4/30/2015.

Filed Date: 3/4/15.

Accession Number: 20150304-5072.

Comments Due: 5 p.m. ET 3/25/15.

Docket Numbers: ER15-1173-000.

Applicants: McKittrick Limited.

Description: Initial rate filing per 35.12 MBR Application to be effective 4/30/2015.

Filed Date: 3/4/15.

Accession Number: 20150304-5073.

Comments Due: 5 p.m. ET 3/25/15.

Docket Numbers: ER15-1174-000.

Applicants: Covanta Power, LLC.

Description: Tariff Withdrawal per 35.15: Notice of Cancellation of Market-Based Rate Tariff to be effective 5/3/2015.

Filed Date: 3/4/15.

Accession Number: 20150304-5097.

Comments Due: 5 p.m. ET 3/25/15.

Docket Numbers: ER15-1175-000.

Applicants: Consumers Energy Company.

Description: Notice of Cancellation of Consumers Energy Company Service Agreement No. 4 Under FERC Electric Tariff, Volume No. 7.

Filed Date: 3/4/15.

Accession Number: 20150304-5149.

Comments Due: 5 p.m. ET 3/25/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2015.
Nathaniel J. Davis, Sr.,
Deputy Secretary.

[FR Doc. 2015-05546 Filed 3-10-15; 8:45 am]

BILLING CODE 6717-01-P